DEPARTMENT OF LABOR

Employment and Training Administration

[TA-W-52,447]

Fisher Controls, LLC, a Division of Emerson Electric Company, North Stonington, CT; Notice of Termination of Investigation

Pursuant to Section 221 of the Trade Act of 1974, as amended, an investigation was initiated on August 1, 2003 in response to a petition filed by a company official on behalf of workers at Fisher Controls, LLC, a division of Emerson Electric Company, North Stonington, Connecticut.

The petitioner has requested that the petition be withdrawn. Consequently, the investigation has been terminated.

Signed at Washington, DC, this 12th day of August, 2003.
Linda G. Poole,
Certifying Officer, Division of Trade Adjustment Assistance.

[FR Doc. 03-22269 Filed 8-29-03; 8:45 am]

BILLING CODE 4510-30-P